DEPARTMENT OF DEFENSE

Office of the Secretary

[Docket ID: DoD-2023-OS-0034]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by September 20, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Evaluation of the Family Advocacy Program's Domestic Violence Awareness and Child Abuse Prevention Campaigns; OMB Control Number 0704-EFAC.

Type of Request: New.

Number of Respondents: 9,632.

Responses per Respondent: 1.

Annual Responses: 9,632.

Average Burden per Response: 1 hour.

Annual Burden Hours: 9,632.

Needs and Uses: This project is needed to evaluate the effectiveness of the Family Advocacy Program's (FAP) Domestic Violence Awareness (DVA) and Child Abuse Prevention (CAP) campaigns at increasing knowledge and awareness. The Department of Defense, Service branches, and the Family Advocacy Program (FAP) have historically applied child abuse prevention and domestic violence awareness efforts during annual awareness months to leverage increased visibility and media coverage. Evaluation of the reach and penetration of these campaigns is imperative to assess the effectiveness of the messaging developed and delivered by the FAP.

Affected Public: Individuals or households.

Frequency: Once.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: August 15, 2023.
Natalie M. Ragland,
Alternate OSD Federal Register Liaison Officer, Department of Defense.

[FR Doc. 2023-17856 Filed 8-18-23; 8:45 am]

BILLING CODE 5001-06-P